DEPARTMENT OF ENERGY

Request for Comment: Publication of the Draft Plan for a Defense Waste Repository

AGENCY: Office of Spent Fuel and Waste Disposition, Office of Nuclear Energy, Department of Energy.

ACTION: Notice of availability and request for comment.

SUMMARY: Consistent with the determination by the President in March 2015 and pursuant to its authorities under the Atomic Energy Act, the U.S. Department of Energy (DOE) is proceeding to evaluate the development of a repository for disposal of high-level radioactive waste (HLW) resulting from DOE's atomic energy defense activities. This defense waste repository (DWR) could be used to dispose of some or all of the spent nuclear fuel (SNF) and HLW resulting from DOE's atomic energy defense activities and/or research and development activities. The DOE intends to use a consent-based process for siting the DWR, and is beginning that process by sharing the Draft Plan for a DWR for public comment.

DATES: The comment period will end March 20, 2017. Comments received after this date will be considered to the extent practicable.

ADDRESSES: The Draft Plan is available at energy.gov/DWR. Interested persons may submit comments by any of the following methods.

Email: Comments may be submitted by email to DWR@hq.doe.gov. Please include “Response to DWR RFC” in subject line.

Mail: Comments may be provided by mail to the following address: U.S. Department of Energy, Office of Nuclear Energy, Response to DWR RFC, 1000 Independence Ave. SW., Washington, DC 20585.

Fax: Responses may be faxed to 202-586-0544. Please include “Response to DWR RFC” on the fax cover page.

Online: Responses may be submitted online at www.regulations.gov.

FOR FURTHER INFORMATION CONTACT: Evangeline Chase at (202) 586-7965 or DWR@hq.doe.gov. Written inquiries should be mailed to Ms. Evangeline Chase at the Department of Energy, Office of Spent Fuel and Waste Disposition (NE-8), Office of Nuclear Energy, 1000 Independence Ave. SW., Washington, DC 20585.

SUPPLEMENTARY INFORMATION:

Background

Nuclear material is used to power naval vessels and was used to build the U.S. nuclear weapon stockpile during the Cold War. These activities have generated spent nuclear fuel (SNF) and high-level radioactive waste (HLW) that are currently stored at multiple DOE sites.

The United States no longer generates defense HLW from reprocessing of SNF associated with weapons production. The finite volume and lower heat output of the defense HLW compared to commercial SNF simplify the planning required to site and construct a DWR, in contrast to that for a common repository for both defense and commercial nuclear waste under the Nuclear Waste Policy Act (NWPA).

The United States does not have an operating permanent disposal site for SNF and HLW. Isolating this material from the biosphere is necessary to ensure the long-term safety and security of the public and environment. DOE is responsible for removing defense HLW and SNF that is currently stored at several DOE sites. These environmental clean-up activities require a permanent disposal site for the defense waste.

In March 2015, the President issued a Presidential Memorandum in which he found that “the development of a repository for the disposal of high-level radioactive waste resulting from atomic energy defense activities only is required.” This finding permits the Department to develop a separate DWR in accordance with its authority under the Atomic Energy Act. A DWR could be used to dispose of some or all of the SNF and HLW resulting from DOE's atomic energy defense activities and/or research and development activities.

The Department has begun early planning to identify various activities that need to be performed to evaluate and design a DWR. Although these plans are preliminary, they begin to describe the different components—including technical, regulatory, risk management, cost and schedule considerations—that need to come together to build a viable program, all within the framework of a consent-based siting process. A DWR could be sited, licensed, and built sooner than a common repository. This could potentially reduce ongoing storage, treatment, and management costs for defense waste currently stored at DOE facilities. Successful development of a DWR could play an important role in a broader nuclear waste strategy by providing important experience in the design, siting, licensing, and development of the facility that could be applied to the development of a future repository for commercial spent fuel.

It is now appropriate to share the Draft Plan and ask the public for its review and feedback. Ultimately, the final Plan would provide meaningful information to any community interested in learning more about what it would take to host such a facility.

Purpose

In this notice, DOE announces the availability of the Draft Plan for a Defense Waste Repository to inform the public and request feedback on the plan. The Draft Plan is available at the following Web site—energy.gov/DWR.

Next Steps

Comments received in response to this Request for Comments will be used to revise the Draft Plan and inform next steps.

Submitting Comments

Instructions: Submit comments via any of the mechanisms set forth in the ADDRESSES section. No individual responses to comments will be provided. DOE plans to publish all comments received in their entirety without change or edit, including any personal information provided, on the Office of Nuclear Energy Web site at the close of the public comment period. All submissions from individuals, organizations or businesses will be recorded and included in the public record, published and open to public inspection in their entirety.

Privacy Act: Data collected via the mechanism listed above will not be protected from the public view in any way.

Issued in Washington, DC, on December 6, 2016.
Andrew R. Griffith,
Deputy Assistant Secretary for Spent Fuel and Waste Disposition, Office of Nuclear Energy, Department of Energy.

[FR Doc. 2016-30366 Filed 12-16-16; 8:45 am]

BILLING CODE 6450-01-P